DEPARTMENT OF HEALTH AND HUMAN SERVICES

Office of the Secretary

[Document Identifier HHS-OS-0945-0002-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0945-0002, scheduled to expire on December 31, 2015. Comments submitted during the first public review of this ICR will be provided to OMB. OMB will accept further comments from the public on this ICR during the review and approval period.

DATES: Comments on the ICR must be received on or before January 27, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0945-0002 for reference.

Proposed Project: Complaint Forms for Discrimination; Health Information Privacy Complaints OMB No. 0945-0002—Extension—Office of Civil Rights

Abstract: The Office for Civil Rights is seeking an extension on an approval for a 3-year clearance on a previous collection. Individuals may file written complaints with the Office for Civil Rights when they believe they have been discriminated against by programs or entities that receive Federal financial assistance from the Health and Human Service or if they believe that their right to the privacy of protected health information has been violated. Annual Number of Respondents frequency of submission is record keeping and reporting on occasion.

Estimated Annualized Burden Table
Forms | Type of respondent | Number of respondents | Number of responses per respondent | Average burden hours per response | Total burden hours
Civil Rights Complaint Form | Individuals or households, Not-for-profit institutions | 3493 | 1 | 45/60 | 2620
Health Information Privacy Complaint Form | Individuals or households, Not-for-profit institutions | 10,286 | 1 | 45/60 | 7715
Total |  |  |  |  | 10,335

Terry S. Clark,
Asst Information Collection Clearance Officer.

[FR Doc. 2015-32551 Filed 12-24-15; 8:45 am]

BILLING CODE 4153-01-P